DEPARTMENT OF HEALTH AND HUMAN SERVICES

Administration for Children and Families

[Office of Management and Budget #: 0970-0427]

Submission for Office of Management and Budget Review; Head Start Program Information Report

AGENCY: Office of Head Start, Administration for Children and Families, U.S. Department of Health and Human Services.

ACTION: Request for public comments.

SUMMARY: The Administration for Children and Families (ACF) Office of Head Start (OHS) is proposing edits to and requesting a 3-year extension of the Head Start Program Information Report (PIR), Monthly Enrollment reporting instrument, and Center Locations and Contacts instrument (Office of Management and Budget #0970-0427, expiration August 31, 2028). OHS has made updates to the PIR and Monthly Enrollment reporting instrument.

DATES: Comments due March 2, 2026.

ADDRESSES: The public may view and comment on this information collection request at: https://www.reginfo.gov/public/do/PRAViewICR?ref_nbr=202601-0970-008. You can also obtain copies of the proposed collection of information by emailing infocollection@acf.hhs.gov. Identify all emailed requests by the title of the information collection.

SUPPLEMENTARY INFORMATION:

Description: OHS is requesting an extension, with changes, of the Head Start PIR information collection. The following instruments are included in this information collection: (1) PIR, (2) Monthly Enrollment, and (3) Center Locations and Contacts. PIR is used for federal program management purposes including to promote decision-making using data, is a major source of information used to respond to Congressional and public inquiries about Head Start programs and is used often by researchers. Monthly enrollment reporting supports oversight activities related to promoting full enrollment of programs. Center locations and contact reporting is used to help parents locate a program in their community. In general, these information collections together create key administrative datasets to support administration of the program. The proposed changes include new questions on the PIR on primary reasons children with an Individualized Education Program or Individualized Family Service Plan did not receive services, as well as the number of children who had a 504 Plan. These changes were identified as necessary to clarify reporting on children who receive additional education and related services. Additionally, minor changes were made to the PIR and the monthly enrollment reporting instruments for clarification purposes. No changes are proposed to the Center Locations and Contacts information collection.

Respondents: Head Start Grant Recipients.

Annual Burden Estimates

The proposed revisions do not impact the estimated average burden per response.

Instrument | Annual number of respondents | Annual number of responses per respondent | Average burden hours per response | Annual burden hours
Head Start PIR | 1,600 | 2.25 | 1 | 3,600
Monthly Enrollment | 1,600 | 27 | 0.05 | 2,160
Center Locations and Contacts | 1,600 | 15 | 0.25 | 6,000

Estimated Total Annual Burden Hours: 11,760.

Authority: 42 U.S.C. 9801 et seq.

Mary C. Jones,
ACF/OPRE Certifying Officer.

[FR Doc. 2026-01796 Filed 1-28-26; 8:45 am]

BILLING CODE 4184-40-P